NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by April 5, 2001. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Joyce Jatko at the above address or (703) 292-8032.

SUPPLEMENTARY INFORMATION: The National Science Foundation, under the authority of the Antarctic Conservation Act of 1978, as amended, issued regulations providing for the conservation of Antarctic animals and plants. The regulations provide for a permit system for various activities in Antarctica otherwise prohibited, including entry into Antarctic Specially Protected Areas, taking of native mammals, birds, or plants, exporting or importing any native mammal, bird or plant, or introducing into Antarctica any non-native species.

The Application Received Is as Follows

Applicant: H. William Detrich, Department of Biology, Northeastern University, Boston, MA 02215.

Permit Application No.: 2001-027.

Activity for Which Permit is Requested: Introduce into Antarctica. The applicant proposes to use a mixture of species of frozen fish tissues from species native to Patagonian Chile, specifically Macruronis magellanicus and Dissostichus eleginoides, as bait in experimental fishing of fish traps/pots in the Antarctic peninsula area. The bait will be used to attempt to capture Antarctic fish for ongoing studies of their biochemistry and molecular biology. In all previous research seasons, capture of fish specimens has been carried out exclusively by benthic trawling. If use of the fish traps proves to be successful, this method could reduce the necessity and frequency of trawling for specimens and resultant disruption to benthic communities and could yield a much more diverse sample of fish species for research work. It is anticipated that a maximum of twenty traps using ten to fifteen kilogram blocks of frozen bait each would be required.

Location: Antarctic peninsula area in the vicinities of Low, Brabant, Anvers, Livingston Islands and Dallmann Bay.

Dates: June 10, 2001 to July 15, 2001.

Joyce A. Jatko,
Acting Permit Officer, Office of Polar Programs.

[FR Doc. 01-5315 Filed 3-5-01; 8:45 am]

BILLING CODE 7555-01-M